DEPARTMENT OF TRANSPORTATION

Federal Aviation Administration

14 CFR Part 71

[Docket No. FAA-2010-0582; Airspace Docket No. 10-AEA-15]

Proposed Establishment of Class E Airspace; Kenbridge, VA

AGENCY: Federal Aviation Administration (FAA), DOT.

ACTION: Notice of proposed rulemaking (NPRM); withdrawal.

SUMMARY: This action withdraws the NPRM published in the Federal Register on November 29, 2010, which proposed to establish Class E airspace at Lunenburg County Airport, Kenbridge, VA. The NPRM is being withdrawn as a portion of the proposed airspace was not included. A new rulemaking will be forthcoming to correctly establish the new airspace.

DATES: Effective 0901 UTC, February 10, 2011, the proposed rule published November 29, 2010, at 75 FR 73016, is withdrawn.

FOR FURTHER INFORMATION CONTACT: Richard Horrocks, Operations Support Group, Eastern Service Center, Federal Aviation Administration, P.O. Box 20636, Atlanta, Georgia 30320; telephone (404) 305-5588.

SUPPLEMENTARY INFORMATION:

History

On November 29, 2010, a NPRM was published in the Federal Register to establish Class E airspace at Kenbridge, VA to accommodate special standard instrument approach procedure for Lunenburg County Airport (75 FR 73016) Docket No. FAA-2010-0582. After publication the FAA found that the airspace description in the proposed rule inadvertently excluded extensions necessary for the airport legal description. To avoid confusion this proposed rule is being withdrawn and will be established under another rulemaking.

Lists of Subjects in 14 CFR Part 71

Airspace, Incorporation by reference, Navigation (Air).

The Withdrawal

Accordingly, pursuant to the authority delegated to me, the Notice of Proposed Rulemaking, Airspace Docket No. 10-AEA-15, as published in the Federal Register on November 29, 2010 (75 FR 73016) (FR Doc. 2010-0582), is hereby withdrawn.

Authority: 49 U.S.C. 106(g); 40103, 40113, 40120; E.O. 10854, 24 FR 9565, 3 CFR, 1959-1963 Comp., p. 389.

Issued in College Park, Georgia, on January 25, 2011.
Mark D. Ward,
Manager, Operations Support Group, Eastern Service Center, Air Traffic Organization.

[FR Doc. 2011-2986 Filed 2-9-11; 8:45 am]

BILLING CODE 4910-13-P